DEPARTMENT OF EDUCATION

RIN 1855-ZA08

[CFDA Number 84.282M]

Final Priorities, Requirements, and Selection Criteria; Charter Schools Program (CSP) Grants for Replication and Expansion of High-Quality Charter Schools

AGENCY: Office of Innovation and Improvement, Department of Education.

ACTION: Notice of final priorities, requirements, definitions, and selection criteria.

SUMMARY: The Assistant Deputy Secretary for Innovation and Improvement announces priorities, requirements, definitions, and selection criteria under the CSP-Replication and Expansion of High-Quality Charter Schools grant program. The Assistant Deputy Secretary may use these priorities, requirements, definitions, and selection criteria for competitions in fiscal year (FY) 2011 and later years. We intend to use these priorities, requirements, definitions, and selection criteria to award grants to eligible applicants to enable them to replicate or substantially expand high-quality charter schools with demonstrated records of success, including success in increasing student academic achievement.

DATES: Effective Date: These priorities, requirements, definitions, and selection criteria are effective August 11, 2011.

FOR FURTHER INFORMATION CONTACT: Erin Pfeltz, U.S. Department of Education, 400 Maryland Avenue, SW., room 4W255, Washington, DC 20202-5970. Telephone: (202) 205-3525 or by e-mail: erin.pfeltz@ed.gov.

If you use a telecommunications device for the deaf (TDD), call the Federal Relay Service (FRS), toll free, at 1-800-877-8339.

SUPPLEMENTARY INFORMATION: Purpose of Program: The purpose of the CSP is to increase national understanding of the charter school model and to expand the number of high-quality charter schools available to students across the Nation by providing financial assistance for the planning, program design, initial implementation, and expansion of charter schools; and to evaluate the effects of charter schools, including their effects on students, student academic achievement, staff, and parents.

The purpose of the CSP-Replication and Expansion of High-Quality Charter Schools grant program (CFDA 84.282M) is to award grants to eligible applicants to enable them to replicate or expand high-quality charter schools with demonstrated records of success, including success in increasing student academic achievement.

Program Authority: 20 U.S.C. 7221-7221j; Consolidated Appropriations Act, 2010, Division D, Title III, Public Law 111-117; Department of Defense and Full-Year Continuing Appropriations Act, 2011, Division B, Title VIII, Public Law 112-10.

We published a notice of proposed priorities, requirements, definitions, and selection criteria (NPP) for the CSP-Replication and Expansion of High-Quality Charter Schools grant program in the Federal Register on March 25, 2011 (76 FR 16754). That notice contained background information and our reasons for proposing the particular priorities, requirements, definitions, and selection criteria.

There are differences between the priorities, requirements, definitions, and selection criteria proposed in the NPP and these final priorities, requirements, definitions, and selection criteria, as discussed in the Analysis of Comments and Changes section elsewhere in this notice.

Public Comment: In response to the NPP, three parties submitted comments on the proposed priorities, requirements, definitions, and selection criteria.

Generally, we do not address technical and other minor changes. In addition, we do not address general comments that raised concerns not directly related to the proposed priorities, requirements, definitions, or selection criteria.

Analysis of Comments and Changes: An analysis of the comments and any changes in the priorities, requirements, definitions, and selection criteria since publication of the NPP follows.

Priority 2—Low-Income Demographic

Comment: One commenter suggested that we modify this priority to require an applicant to demonstrate that at least 50 percent (rather than 60 percent, as proposed in the NPP) of all students in the charter schools it currently operates or manages are individuals from low-income families.

Discussion: We decline to make the requested change because we intend for this program to focus on serving educationally disadvantaged students, which include individuals from low-income families (as defined in this notice). The definition of individual from a low-income family includes an individual determined by a State educational agency (SEA) or local educational agency (LEA) to be a child between the ages of 5 and 17 from a low-income family on the basis of data on children eligible for free or reduced-price lunches under the Richard B. Russell National School Lunch Act. The 60 percent threshold in this priority is consistent with the average percentage of students in large urban school districts receiving free- or reduced-price lunches (as reported by the Council of Great City Schools, http://www.cgcs.org/about/fact_sheet.aspx). Our definition of individual from a low-income family includes free or reduced-price lunch as one indicator. We believe that it is appropriate to align the threshold for the percentage of students from low-income families served by the applicant's current charter schools in Priority 2—Low-Income Demographic with the average percentage of students in large urban school districts receiving free- or reduced-price lunches so that schools funded under this competition will be able to serve students residing in such districts as well as students in districts that have a higher poverty percentage.

Changes: None.

Priority 4—Promoting Diversity

Comment: One commenter suggested that we revise the language in Priority 4—Promoting Diversity. Specifically, the commenter expressed concern that the language, which focuses on promoting racial and ethnic diversity and avoiding racial isolation, would, in effect, encourage applicants to use classifications based on race and ethnicity to achieve some predetermined racial and ethnic mix in their programs.

Discussion: This priority is based on the “Promoting Diversity” priority established in the Department's Supplemental Priorities, which were published in the Federal Register on December 15, 2010 (75 FR 78486), and is designed to serve the same purpose (e.g., to focus on the racial and ethnic diversity of students in order to promote cross-racial understanding, break down racial stereotypes, and prepare students for an increasingly diverse workforce and society). Nevertheless, we have added a note to the priority to clarify the purpose of the priority and ensure that proposals to meet the priority comply with current law.

In addition, on further review of this priority, we believe that certain wording changes in the priority are appropriate. First, we believe that we can make the language more consistent with the “Promoting Diversity” priority from the Supplemental Priorities by referring to “student diversity” rather than “diversity in their student bodies.” In addition, to eliminate any possibility that the language might encourage applicants to create charter schools with disproportionate enrollments, we believe it is appropriate to require that an applicant take active measures to serve students with disabilities and English learners at a rate at least comparable to the rate at which these students are served in public schools in the surrounding area—rather than at a rate equal to or higher than the rate at which these students are served in public schools in the surrounding area.

Changes: We have added a Note following Priority 4—Promoting Diversity to provide further information for applicants on responding to Priority 4. This note invites an applicant to discuss how the project will encourage approaches by charter schools that help bring together students of different backgrounds to attain the benefits that flow from a diverse student body and how it will ensure that those approaches to promoting diversity among its schools are permissible under current law.

In addition we have revised paragraph (a) of the priority to refer to promoting “student diversity” rather than “diversity in their student bodies.” Finally, we have revised the standard in paragraphs (b) and (c) to require applicants to demonstrate, in order to meet the priority, a record of, and intent to continue, taking active measures to serve students with disabilities (paragraph (b)) and English learners (paragraph (c)) at a rate that is at least comparable to the rate at which these students are served in public schools in the surrounding area.

Comment: One commenter suggested that we revise Proposed Priority 4—Promoting Diversity so that an applicant can meet the priority if the applicant meets any one of the three listed factors in the priority.

Discussion: We decline to revise this priority as requested because we want to maintain flexibility to use the priority differently, depending on the objectives in a specific competition. For example, if we designate this priority as an absolute priority or an “all or nothing” competitive preference priority, an applicant would need to meet all of the factors under the priority in order to meet the priority. In contrast, if we elect to use this priority as a competitive preference priority under which applicants can receive up to a certain number of points, then an applicant might very well be able to receive competitive preference points under the priority if it satisfies one or some, but not all of, the factors listed in the priority.

Changes: None.

Comment: One commenter recommended that we designate certain proposed priorities as absolute, competitive, or invitational.

Discussion: This notice is designed only to establish the priorities that we may choose to use in CSP Replication and Expansion of High-Quality Charter School grant competitions in fiscal year 2011 and future years. As noted elsewhere in this notice, we do not designate whether a priority will be absolute, competitive, or invitational in this notice. When inviting applications for a competition using one or more priorities, we will designate the type of each priority through a notice in the Federal Register.

Changes: None.

Comment: One commenter encouraged the Department to make State and school subgroup data more readily accessible so that applicants will be better able to address Priority 4—Promoting Diversity and the Proposed Requirements.

Discussion: At present, the Department is looking into ways we can make more data at the State, district and school levels, with information on subgroups, available to the public in a manner that protects the privacy of individuals.

Changes: None.

Requirements

Comment: One commenter suggested that the Department establish a maximum limit of approximately $600,000 for the start-up of new schools under the CSP Replication and Expansion of High-Quality Charter Schools grants program.

Discussion: In the Reasonable and Necessary Costs section (paragraph (c)) of the Proposed Program Requirements, the Secretary reserves the right to impose a maximum limit on the amount of funds that may be awarded per charter school replicated, per charter school substantially expanded, or per new school seat created. We decline to make the change requested by the commenter regarding the establishment of a fixed maximum limit for the start-up of new schools because the requirements in this notice may be used in future competitions. In order to be able to respond to future needs or new information on the start-up costs of new or expanding charter schools, we believe it is prudent to preserve the Secretary's flexibility in making the determination of a maximum amount, or whether one is needed, on a competition-by-competition basis.

Changes: None.

Comment: None.

Discussion: Upon further review of paragraph (j) in the Application Requirements, we have determined that the paragraph does not clearly state that the applicant should describe how all students in the community will be informed, and given an equal opportunity to attend, the proposed new or substantially expanded schools.

Changes: We have inserted “all” into paragraph (j) of the Application Requirements section, before “students in the community”.

Comment: None.

Discussion: Upon further review of the Application Requirements, we have determined that applicants should be aware that small data groups can lead to the disclosure of personally identifiable information (PII).

Changes: In paragraphs (m), (n)(2), and (n)(3) of the Application Requirements section, we have inserted “maintaining standards to protect personally identifiable information” as a parenthetical.

Comment: None.

Discussion: Upon further review of paragraph (n)(3) in the Application Requirements, we have determined that the National Center for Education Statistics report to which we referred as an example of the scale of State proficiency standards is of limited value to applicants because the data in the report are based on State standards in 2007. Given that there is not a more recent version of this report, and because we do not want to provide a static example while State standards continue to change, we believe it is appropriate to remove this example.

Changes: We have removed the parenthetical referencing the “report available at http://nces.ed.gov/nationsreportcard/pdf/studies/2010456.pdf” from paragraph (n)(3) of the Application Requirements section.

Final Priorities:

The Assistant Deputy Secretary for Innovation and Improvement establishes the following four priorities for the CSP Replication and Expansion of High-Quality Charter Schools grants program. We may apply one or more of these priorities in any year in which this program is in effect.

Priority 1—Experience Operating or Managing High-Quality Charter Schools.

This priority is for projects that will provide for the replication or expansion of high-quality charter schools by applicants that currently operate or manage more than one high-quality charter school (as defined in this notice).

Priority 2—Low-Income Demographic.

To meet this priority, an applicant must demonstrate that at least 60 percent of all students in the charter schools it currently operates or manages are individuals from low-income families (as defined in this notice).

Priority 3—School Improvement.

To meet this priority, an applicant must demonstrate that its proposed replication or expansion of one or more high-quality charter schools will occur in partnership with, and will be designed to assist, one or more LEAs in implementing academic or structural interventions to serve students attending schools that have been identified for improvement, corrective action, closure, or restructuring under section 1116 of the Elementary and Secondary Education Act of 1965, as amended (ESEA), and as described in the notice of final requirements for School Improvement Grants, published in the Federal Register on October 28, 2010 (75 FR 66363).

Priority 4—Promoting Diversity.

This priority is for applicants that demonstrate a record of (in the schools they currently operate or manage), as well as an intent to continue (in schools that they will be creating or substantially expanding under this grant), taking active measures to—

(a) Promote student diversity, including racial and ethnic diversity, or avoid racial isolation;

(b) Serve students with disabilities at a rate that is at least comparable to the rate at which these students are served in public schools in the surrounding area; and

(c) Serve English learners at a rate that is at least comparable to the rate at which these students are served in public schools in the surrounding area.

In support of this priority, applicants must provide enrollment data as well as descriptions of existing policies and activities undertaken or planned to be undertaken.

Note: An applicant addressing this priority is invited to discuss how the proposed design of its project will encourage approaches by charter schools that help bring together students of different backgrounds, including students from different racial and ethnic backgrounds, to attain the benefits that flow from a diverse student body. The applicant should discuss in its application how it would ensure that those approaches are permissible under current law.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

FINAL PROGRAM REQUIREMENTS:

The Assistant Deputy Secretary for Innovation and Improvement establishes the following program requirements for the CSP Replication and Expansion of High-Quality Charter Schools grants program. We may apply one or more of these requirements in any year in which this program is in effect.

(a) Eligibility: To be eligible for an award, an applicant must meet the statutory requirements. The requirement listed below is statutory; we are including it here for clarity:

Eligible applicants for this program are non-profit charter management organizations (CMOs) and other not-for-profit entities. Eligible applicants may also apply as a group or consortium.

(b) Funding Restrictions: Grantees under this program must use the grant funds to replicate or substantially expand the charter school model or models for which the applicant has presented evidence of success. Grant funds must be used to carry out allowable activities, as described in section 5204(f)(3) of the ESEA (20 U.S.C. 7221c(f)(3)).

Note: A grantee may use up to 20 percent of grant funds for initial operational costs associated with the expansion or improvement of the grantee's oversight or management of its charter schools, provided that: (i) The specific charter schools being created or substantially expanded under the grant are the intended beneficiaries of such expansion or improvement, and (ii) such expansion or improvement is intended to improve the grantee's ability to manage or oversee the charter schools created or substantially expanded under the grant.

(c) Reasonable and Necessary Costs: The Secretary may elect to impose a maximum limit on the amount of grant funds that may be awarded per charter school replicated, per charter school substantially expanded, or per new charter school seat created.

Note: Applicants must ensure that all costs included in the proposed budget are reasonable and necessary in light of the goals and objectives of the proposed project. Any costs determined by the Secretary to be unreasonable or unnecessary will be removed from the final approved budget.

(d) Other CSP Grants: A charter school that receives funds under this competition is ineligible to receive funds for the same purpose under section 5202(c)(2) of the ESEA, including for planning and program design or the initial implementation of a charter school (i.e., CFDA 84.282A or 84.282B).

A charter school that has received CSP funds for replication previously, or that has received funds for planning or initial implementation of a charter school (i.e., CFDA 84.282A or 84.282B), may not use funds under this grant for the same purpose. However, such charter schools may be eligible to receive funds under this competition to substantially expand the charter school beyond the existing grade levels or student count.

Final Application Requirements:

The Assistant Deputy Secretary for Innovation and Improvement establishes the following application requirements for the CSP Replication and Expansion of High-Quality Charter Schools grants. We may apply one or more of these application requirements in any year in which this program is in effect. An applicant may choose to respond to these application requirements in the context of its responses to the selection criteria.

(a) Describe the objectives of the project for replicating or substantially expanding high-quality charter schools and the methods by which the applicant will determine its progress toward achieving those objectives.

(b) Describe how the applicant currently operates or manages the charter schools for which it has presented evidence of success, and how the proposed new or substantially expanded charter schools will be operated or managed. Include a description of central office functions, governance, daily operations, financial management, human resources management, and instructional management. If applying as a group or consortium, describe the roles and responsibilities of each member of the group or consortium and how each member will contribute to the proposed project.

(c) Describe how the applicant will ensure that each proposed new or substantially expanded charter school receives its commensurate share of Federal education funds that are allocated by formula each year, including during the first year of operation of the school and any year in which the school's enrollment substantially expands.

(d) Describe the educational program to be implemented in the proposed new or substantially expanded charter schools, including how the program will enable all students (including educationally disadvantaged students) to meet State student academic achievement standards, the grade levels or ages of students to be served, and the curriculum and instructional practices to be used.

(e) Describe the administrative relationship between the charter school or schools to be replicated or substantially expanded by the applicant and the authorized public chartering agency.

(f) Describe how the applicant will provide for continued operation of the proposed new or substantially expanded charter school or schools once the Federal grant has expired.

(g) Describe how parents and other members of the community will be involved in the planning, program design, and implementation of the proposed new or substantially expanded charter school or schools.

(h) Include a request and justification for waivers of any Federal statutory or regulatory provisions that the applicant believes are necessary for the successful operation of the proposed new or substantially expanded charter schools.

(i) Describe how the grant funds will be used, including how these funds will be used in conjunction with other Federal programs administered by the Secretary, and with any matching funds.

(j) Describe how all students in the community, including students with disabilities, English learners, and other educationally disadvantaged students, will be informed about the proposed new or substantially expanded charter schools and given an equal opportunity to attend such schools.

(k) Describe how the proposed new or substantially expanded charter schools that are considered to be LEAs under State law, or the LEAs in which the new or substantially expanded charter schools are located, will comply with sections 613(a)(5) and 613(e)(1)(B) of the Individuals with Disabilities Education Act.

(l) Provide information on any significant compliance issues identified within the past three years for each school managed by the applicant, including compliance issues in the areas of student safety, financial management, and statutory or regulatory compliance.

(m) For each charter school currently operated or managed by the applicant, provide the following information: The year founded, the grades currently served, the number of students, the address, the percentage of students in each subgroup of students described in section 1111(b)(2)(C)(v)(II) of the ESEA, results on the State assessment for the past three years (if available) by subgroup, attendance rates, student attrition rates for the past three years, and (if the school operates a 12th grade) high school graduation rates and college attendance rates (maintaining standards to protect personally identifiable information).

(n) Provide objective data showing applicant quality. In particular, the Secretary requires the applicant to provide the following data:

(1) Performance (school-wide and by subgroup) for the past three years (if available) on statewide tests of all charter schools operated or managed by the applicant as compared to all students in other schools in the State or States at the same grade level, and as compared with other schools serving similar demographics of students;

(2) Annual student attendance and retention rates (school-wide and by subgroup) for the past three years (or over the life of the school, if the school has been open for fewer than three years), and comparisons with other similar schools (maintaining standards to protect personally identifiable information); and

(3) Where applicable and available, high school graduation rates, college attendance rates, and college persistence rates (school-wide and by subgroup) for the past three years (if available) of students attending schools operated or managed by the applicant, and the methodology used to calculate these rates (maintaining standards to protect personally identifiable information). When reporting data for schools in States that may have particularly demanding or low standards of proficiency, applicants are invited to discuss how their academic success might be considered against applicants from across the country.

(o) Provide such other information and assurances as the Secretary may require.

Definitions:

The Assistant Deputy Secretary for Innovation and Improvement establishes the following definitions for the CSP Replication and Expansion of High-Quality Charter Schools grants. We may apply one or more of these definitions in any year in which this program is in effect.

Charter management organization (CMO) is a nonprofit organization that operates or manages multiple charter schools by centralizing or sharing certain functions and resources among schools.

Educationally disadvantaged students includes, but is not necessarily limited to, individuals from low-income families (as defined elsewhere in this notice), English learners, migratory children, children with disabilities, and neglected or delinquent children.

High-quality charter school is a school that shows evidence of strong academic results for the past three years (or over the life of the school, if the school has been open for fewer than three years), based on the following factors:

(1) Increasing student academic achievement and attainment for all students, including, as applicable, educationally disadvantaged students served by the charter schools operated or managed by the applicant.

(2) Either (i) Demonstrated success in closing historic achievement gaps for the subgroups of students, described in section 1111(b)(2)(C)(v)(II) of the ESEA at the charter schools operated or managed by the applicant, or

(ii) No significant achievement gaps between any of the subgroups of students described in section 1111(b)(2)(C)(v)(II) of the ESEA at the charter schools operated or managed by the applicant and significant gains in student academic achievement with all populations of students served by the charter schools operated or managed by the applicant.

(3) Achieved results (including performance on statewide tests, annual student attendance and retention rates, high school graduation rates, college attendance rates, and college persistence rates where applicable and available) for low-income and other educationally disadvantaged students served by the charter schools operated or managed by the applicant that are above the average academic achievement results for such students in the State.

(4) No significant compliance issues (as defined in this notice), particularly in the areas of student safety and financial management.

Individual from a low-income family means an individual who is determined by an SEA or LEA to be a child, age 5 through 17, from a low-income family, on the basis of (a) data used by the Secretary to determine allocations under section 1124 of the ESEA, (b) data on children eligible for free or reduced-price lunches under the Richard B. Russell National School Lunch Act, (c) data on children in families receiving assistance under part A of title IV of the Social Security Act, (d) data on children eligible to receive medical assistance under the Medicaid program under Title XIX of the Social Security Act, or (e) an alternate method that combines or extrapolates from the data in items (a) through (d) of this definition (see 20 U.S.C. 6537(3)).

Replicate means to open one or more new charter schools that are based on the charter school model or models for which the applicant has presented evidence of success.

Significant compliance issue means a violation that did, will, or could lead to the revocation of a school's charter.

Substantially expand means to increase the student count of an existing charter school by more than 50 percent or to add at least two grades to an existing charter school over the course of the grant.

Final Selection Criteria:

The Assistant Deputy Secretary for Innovation and Improvement establishes the following selection criteria for the CSP Replication and Expansion of High-Quality Charter Schools grants program. We may apply one or more of these criteria, alone or in combination with one or more selection criteria from 34 CFR 75.210 and section 5204 of the ESEA, in any year in which we award grants for the replication and expansion of high-quality charter schools. In the notice inviting applications or the application package, or both, we will announce the maximum possible points assigned to each criterion.

(a) Quality of the eligible applicant. In determining the quality of the applicant, the Secretary considers the following factors:

(1) The degree, including the consistency over the past three years, to which the applicant has demonstrated success in significantly increasing student academic achievement and attainment for all students, including, as applicable, educationally disadvantaged students served by the charter schools operated or managed by the applicant.

(2) Either (i) The degree, including the consistency over the past three years, to which the applicant has demonstrated success in closing historic achievement gaps for the subgroups of students, described in section 1111(b)(2)(C)(v)(II) of the ESEA at the charter schools operated or managed by the applicant, or

(ii) The degree, including the consistency over the past three years, to which there have not been significant achievement gaps between any of the subgroups of students described in section 1111(b)(2)(C)(v)(II) of the ESEA at the charter schools operated or managed by the applicant and to which significant gains in student academic achievement made with all populations of students served by the charter schools operated or managed by the applicant.

(3) The degree, including the consistency over the past three years, to which the applicant has achieved results (including performance on statewide tests, annual student attendance and retention rates, high school graduation rates, college attendance rates, and college persistence rates where applicable and available) for low-income and other educationally disadvantaged students served by the charter schools operated or managed by the applicant that are significantly above the average academic achievement results for such students in the State.

(b) Contribution in assisting educationally disadvantaged students.

The contribution the proposed project will make in assisting educationally disadvantaged students served by the applicant to meet or exceed State academic content standards and State student academic achievement standards, and to graduate college- and career-ready. When responding to this selection criterion, applicants must discuss the proposed locations of schools to be created or substantially expanded and the student populations to be served.

(c) Quality of the project design.

The Secretary considers the quality of the design of the proposed project. In determining the quality of the design of the proposed project, the Secretary considers the extent to which the goals, objectives, and outcomes to be achieved by the proposed project are clearly specified, measurable, and attainable. Applicants proposing to open schools serving substantially different populations than those currently served by the model for which they have demonstrated evidence of success must address the attainability of outcomes given this difference.

(d) Quality of the management plan and personnel.

The Secretary considers the quality of the management plan and personnel to replicate and substantially expand high-quality charter schools. In determining the quality of the management plan and personnel for the proposed project, the Secretary considers:

(1) The adequacy of the management plan to achieve the objectives of the proposed project on time and within budget, including clearly defined responsibilities, timelines, and milestones for accomplishing project tasks.

(2) The business plan for improving, sustaining, and ensuring the quality and performance of charter schools created or substantially expanded under these grants beyond the initial period of Federal funding in areas including, but not limited to, facilities, financial management, central office, student academic achievement, governance, oversight, and human resources of the charter schools.

(3) A multi-year financial and operating model for the organization, a demonstrated commitment of current and future partners, and evidence of broad support from stakeholders critical to the project's long-term success.

(4) The plan for closing charter schools supported, overseen, or managed by the applicant that do not meet high standards of quality.

(5) The qualifications, including relevant training and experience, of the project director, chief executive officer or organization leader, and key project personnel, especially in managing projects of the size and scope of the proposed project.

This notice does not preclude us from proposing additional priorities, requirements, definitions, or selection criteria, subject to meeting applicable rulemaking requirements.

Note: This notice does not solicit applications. In any year in which we choose to use one or more of these priorities, requirements, definitions, and selection criteria, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities, requirements, definitions, and selection criteria justify the costs.

We have determined, also, that this final regulatory action does not unduly interfere with State, local, and tribal governments in the exercise of their governmental functions.

Summary of potential costs and benefits:

The impact of the Charter Schools Program in opening new charter schools around the country has been well-established. CSP Grants for the Replication and Expansion of High-Quality Charter Schools program gives the best CMOs in the country a chance to replicate their high-performing charter schools and serve more students. The priorities, requirements, definitions, and selection criteria announced in this notice will ensure that the highest-quality applicants receive funds and are able to serve the students most in need.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 7, 2011.
James H. Shelton, III,
Assistant Deputy Secretary for Innovation and Improvement.

[FR Doc. 2011-17491 Filed 7-11-11; 8:45 am]

BILLING CODE 4000-01-P